DEPARTMENT OF ENERGY

Federal Energy Regulatory Commission

[Project No. 2146-111; Project No. 82-000; Project No. 618-000]

Notice of Availability of the Final Supplemental Environmental Impact Statement for the Alabama Power Company Coosa River Hydroelectric Project

In accordance with the National Environmental Policy Act of 1969 and the Federal Energy Regulatory Commission's (Commission) regulations, 18 CFR part 380, the Office of Energy Projects has reviewed the application for a single new license to continue to operate and maintain three separately licensed projects and has prepared a final supplemental environmental impact statement (SEIS).¹ The single new license would combine the Coosa Hydroelectric Project (FERC No. 2146), which consists of the Weiss, H. Neely Henry, Logan Martin, Lay, and Bouldin developments, the Mitchell Dam Hydroelectric Project (FERC No. 82), and the Jordan Dam Hydroelectric Project (FERC No. 618) into one 969.9-megawatt project, the Coosa River Hydroelectric Project (Coosa River Project) No. 2146. The projects are located on the Coosa River, in the states of Alabama and Georgia, and occupy about 508.31 acres of federal land administered by the U.S. Bureau of Land Management and 5.75 acres of federal land administered by the U.S. Army Corps of Engineers. The U.S. Environmental Protection Agency participated as a cooperating agency to prepare the final SEIS.

¹ The Council on Environmental Quality (CEQ) issued a final rule on April 20, 2022, revising its regulations for implementing NEPA (see National Environmental Policy Act Implementing Regulations Revisions, 87 FR 23,453-70). The rule became effective on May 20, 2022. However, because the NEPA review of this project was in process at that time, the final SEIS was prepared pursuant to CEQ's 1978 regulations.

The final SEIS has been prepared to address the July 6, 2018 opinion issued by the United States Court of Appeals for the District of Columbia (court) regarding the Commission's environmental review of the Coosa River Hydroelectric Project and supplements the final environmental assessment (FEA), issued December 31, 2009, for the project. The final SEIS focuses on the following issues identified by the court as needing further analysis and expands upon the analysis contained within the FEA for these issues: (1) dissolved oxygen; (2) fish entrainment and turbine mortality; (3) federally listed threatened and endangered species; and (4) cumulative effects. The final SEIS describes staff's analysis of the applicant's proposal and the alternatives for relicensing the project. The final SEIS documents the views of governmental agencies, non-governmental organizations, affected Indian tribes, the public, the license applicant, and Commission staff.

The Commission provides all interested persons an opportunity to view and/or print the final SEIS via the internet through the Commission's Home Page (http://www.ferc.gov/), using the “eLibrary” link. Enter the docket number (P-2146), excluding the last three digits in the docket number field, to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Any question regarding this notice may be directed to Aaron Liberty at (202) 502-6862 or at aaron.liberty@ferc.gov.

Dated: October 6, 2023.
Kimberly D. Bose,
Secretary.

[FR Doc. 2023-22692 Filed 10-12-23; 8:45 am]

BILLING CODE 6717-01-P